DEPARTMENT OF HOMELAND SECURITY

Transportation Security Administration

Extension of Agency Information Collection Activity Under OMB Review: Transportation Security Officer (TSO) Medical Questionnaire

AGENCY: Transportation Security Administration, DHS.

ACTION: Notice.

SUMMARY: This notice announces that the Transportation Security Administration (TSA) has forwarded the Information Collection Request (ICR) abstracted below to the Office of Management and Budget (OMB) for review and approval of an extension and revision of the currently approved collection under the Paperwork Reduction Act. The ICR describes the nature of the information collection and its expected burden. TSA published a Federal Register notice, with a 60-day comment period soliciting comments, of the following collection of information on April 19, 2006, 71 FR 20118.

DATES: Send your comments by September 25, 2006. A comment to OMB is most effective if OMB receives it within 30 days of publication.

ADDRESSES: Comments may be e-mailed to the Office of Information and Regulatory Affairs, Office of Management and Budget, DHS-TSA Desk Officer at nathan.lesser@omb.eop.gov.

FOR FURTHER INFORMATION CONTACT: Katrina Wawer, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Security Officer (TSO) Medical Questionnaire.

Type of Request: Revision of a currently approved collection.

OMB Control Number: 1652-0032.

Forms(s): Transportation Security Officer Medical Questionnaire; further evaluation forms.

Affected Public: Candidates under employment consideration for Transportation Security Officer positions.

Abstract: TSA is requesting approval to revise this collection of information to comply with 49 U.S.C. 44935, which requires TSA to establish qualification standards for the employment of security screening personnel. With approval from OMB, TSA currently collects information via a Transportation Security Officer (TSO) Medical Questionnaire. TSA now seeks approval to make revisions to the form (and to adjust the title as a result of the conversion from Transportation Security Screeners to Transportation Security Officers on February 5, 2005). TSA also seeks approval to include additional supplemental medical forms, which are required in circumstances where TSA needs the additional medical information to make a determination regarding the candidate's qualifications for the TSO job. Only those TSOs who are required to undergo a follow-up medical exam will be required to bring a supplemental form (or forms) to the exam, a portion of which their physician will complete. This collection of information assists the agency in ensuring that candidates under employment consideration for TSO positions meet the qualification standards to perform the functions of the positions successfully. TSA collects the information through a medical questionnaire and supplemental forms.

Estimated Number of Respondents: 57,038. After further evaluation of the annual respondent population, TSA is revising the estimate noted in its April 2006 notice from 22,800 respondents.

Estimated Annual Burden Hours: 19,013. After further evaluation of the respondent population and hour burden estimate, TSA is revising the estimate noted in its April 2006 notice from 6,346 hours.

Issued in Arlington, Virginia, on August 21, 2006.
Peter Pietra,
Director of Privacy Policy and Compliance.

[FR Doc. E6-14072 Filed 8-23-06; 8:45 am]

BILLING CODE 9110-05-P